DEPARTMENT OF HOMELAND SECURITY

Coast Guard

33 CFR Part 165

[Docket Number USCG-2018-0736]

RIN 1625-AA00

Safety Zones; Coast Guard Sector New Orleans Annual and Recurring Safety Zones Update

AGENCY: Coast Guard, DHS.

ACTION: Final rule.

SUMMARY: The Coast Guard is amending its safety zone regulations for annual events in Coast Guard Sector New Orleans' area of responsibility. This rule adds four new recurring safety zones and amends the location or dates for two events already listed in the table. This action is necessary to protect spectators, participants, and vessels from the hazards associated with annual marine events. This rulemaking would prohibit entry into the safety zones during the events unless authorized by the Captain of the Port Sector New Orleans or a designated representative.

DATES: This rule is effective December 6, 2018.

ADDRESSES: To view documents mentioned in this preamble as being available in the docket, go to https://www.regulations.gov, type USCG-2018-0736 in the “SEARCH” box and click “SEARCH.” Click on Open Docket Folder on the line associated with this rule.

FOR FURTHER INFORMATION CONTACT: If you have questions about this rule, call or email Lieutenant Commander Benjamin Morgan, Sector New Orleans, U.S. Coast Guard; telephone 504-365-2281, email Benjamin.P.Morgan@uscg.mil.

SUPPLEMENTARY INFORMATION:

I. Table of Abbreviations

CFR Code of Federal Regulations

COTP Captain of the Port Sector New Orleans

DHS Department of Homeland Security

FR Federal Register

NPRM Notice of proposed rulemaking

§ Section

U.S.C. United States Code

II. Background Information and Regulatory History

The Captain of the Port Sector New Orleans (COTP) is amending Table 5 of 33 CFR 165.801 to update the table of annual firework displays and other marine events in Coast Guard Sector New Orleans' area of responsibility. The current list of annual and recurring safety zones in Sector New Orleans is published in Table 5 of 33 CFR 165.801. That most recent table was created through the interim final rule published on April 22, 2014 (79 FR 22398). The current Table 5 in 33 CFR 165.801 will be amended to include new safety zones expected to recur annually and provide new information on two existing safety zones.

On September 10, 2018, the Coast Guard published a notice of proposed rulemaking (NPRM) titled Safety Zones; Coast Guard Sector New Orleans Annual and Recurring Safety Zones (83 FR 45584). There we stated why we issued the NPRM, and invited comments on our proposed regulatory action related to this change to the annual and reoccurring safety zones listed in Table 5 of 33 CFR 165.801. During the comment period that ended on October 10, 2018, we received no comments.

III. Legal Authority and Need for Rule

The Coast Guard is issuing this rule under authority in 33 U.S.C. 1231. The Captain of the Port Sector New Orleans (COTP) has determined that it is necessary to amend Table 5 of 33 CFR 165.801 to update the table of annual firework displays and other marine events in Coast Guard Sector New Orleans' area of responsibility. The current list of annual and recurring safety zones in Sector New Orleans is published in Table 5 of 33 CFR 165.801. That most recent table was created through the interim final rule published on April 22, 2014 (79 FR 22398). The current Table 5 in 33 CFR 165.801 needs to be amended to include new safety zones expected to recur annually and provide new information on two existing safety zones.

IV. Discussion of Comments, Changes, and the Rule

As noted above, we received no comments on our NPRM published on September 10, 2018. There are no changes in the regulatory text of this rule from the proposed rule in the NPRM.

This rule amends the safety zone regulations for annual events in Coast Guard Sector New Orleans listed in Table 5 of 33 CFR 165.801. From time to time this section needs to be amended to properly reflect recurring safety zones in Sector New Orleans' area of responsibility. This rule will add four new recurring safety zones and amend the location or dates of two safety zones already listed in the current table. Other than the described changes, the regulations of 33 CFR 165.801 and other provisions in Table 5 of § 165.801 would remain unchanged.

The Coast Guard revises regulations in Table 5 of 33 CFR 165.801 by adding four new safety zones. The safety zones being added to Table 5 are below:

Date | Sponsor/name | Sector New Orleans location | Safety zone
Saturday before Labor Day | Baton Rouge Paddle Club and Muddy water Paddle Co./Big River Regional | Baton Rouge, LA | Mississippi River from mile marker 215 to 230.4, Baton Rouge, LA.
July 4th | L'Auberge Casino Baton Rouge/July 4th Celebration | Baton Rouge, LA | Mississippi River from mile marker 216.0 to 217.5, Baton Rouge, LA.
July 4th | Madisonville Old Fashioned 4th of July | Madisonville, LA | Tchefuncte River, at approximate position 30°24′11.63″ N 090°09′17.39 W, in front of the Madisonville Town Hall.
Weekend before July 4th | Mandeville July 4th Celebration | Mandeville, LA | Approximately 600′ off the shore of the Mandeville Lakefront 30°21′12.03″ N 90°04′ 28.95″ W.

The Coast Guard revises regulations in Table 5 of 33 CFR 165.801 by amending two existing safety zones listed in the table. The first safety zone to be amended is tiled as St. John the Baptist Parish Independence Celebration Fireworks. This safety zone is currently listed to occur at the location of mile marker (MM) 175 to MM 176 on the Lower Mississippi River, above Head of Passes, Reserve, LA. This location contains a typo, which the Coast Guard amends to reflect the correct location in Reserve, LA. The second safety zone to be amended is titled as Independence Day Celebration, Main Street 4th of July (Fireworks Display). The date for this safety zone is currently listed as 4th of July. The Coast Guard amends the date format to conform to the format of other dates listed in the table. The amendments are below:

Date | Sponsor/name | Sector New Orleans location | Safety zone
2. July 3 | St. John the Baptist Parish Independence Celebration Fireworks | Reserve, LA | Mississippi River from mile marker 137.5 to 138.5, Reserve, LA.
5. July 4 | Independence Day Celebration, Main Street 4th of July (Fireworks Display) | Morgan City, LA | Morgan City Port Allen Route mile marker 0.0 to 1.0, Morgan City, LA.

The amendments to these safety zones are necessary to ensure the safety of vessels, spectators, and participants during annual events taking place on or near the navigable waters in Sector New Orleans' area of responsibility. Although this rule will be in effect year-round, the specific safety zones listed in Table 5 of 33 CFR 165.801 will only be enforced during a specified period of time coinciding with the happening of the annual events listed. In accordance with the regulations listed in 33 CFR 165.801(a) through (d), entry into these safety zones is prohibited unless authorized by the COTP or a designated representative. The regulatory text of the updates to Table 5 of § 165.801 appears at the end of this document.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the size, location, and duration of the safety zones. These safety zones are limited in size and duration, and are usually positioned away from high vessel traffic zones. Moreover, the Coast Guard would issue a Broadcast Notice to Mariners via VHF-FM marine channel 16 about the zones, and the rule would allow vessels to seek permission to enter the zones.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zones may be small entities, for the reasons stated in section IV.A above, this rule would not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01 and Commandant Instruction M16475.1D, which guide the Coast Guard in complying with the National Environmental Policy Act of 1969 (42 U.S.C. 4321-4370f), and have determined that this action is one of a category of actions that do not individually or cumulatively have a significant effect on the human environment. This rule involves the establishment of safety zones limiting access to certain areas in Sector New Orleans' area of responsibility. Such actions are categorically excluded from further review under paragraph L60(a) of Appendix A, Table 1 of DHS Instruction Manual 023-01-001-01, Rev. 01. A Record of Environmental Consideration supporting this determination is available in the docket where indicated under ADDRESSES.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. In § 165.801, revise Table 5 to read as follows:

§ 165.801 Annual fireworks displays and other events in the Eighth Coast Guard District requiring safety zones.

* * * * *

Table 5 of § 165.801—Sector New Orleans Annual and Recurring Safety Zones
Date | Sponsor/name | Sector New Orleans location | Safety zone
1. Monday before Mardi Gras | Riverwalk Marketplace/Lundi Gras Fireworks Display | Mississippi River, New Orleans, LA | Mississippi River mile marker 93.0 to 96.0, New Orleans, LA.
2. July 3rd | St. John the Baptist/Independence Day celebration | Mississippi River, Reserve, LA | Mississippi River mile marker 137.5 to 138.5, Reserve, LA.
3. July 4th | Riverfront Marketing Group/Independence Day Celebration | Mississippi River, New Orleans, LA | Mississippi River mile marker 94.3 to 95.3, New Orleans, LA.
4. July 4th | Boomtown Casino/Independence Day Celebration | Harvey Canal, Harvey, LA | Harvey Canal mile marker 4.0 to 5.0, Harvey, LA.
5. July 4th | Independence Day Celebration, Main Street 4th of July (Fireworks Display) | Morgan City, LA | Morgan City Port Allen Route mile marker 0.0 to 1.0, Morgan City, LA.
6. July 4th | WBRZ—The Advocate 4th of July Fireworks Display | Baton Rouge, LA | In the vicinity of the USS Kidd, the Lower Mississippi River from mile marker 228.8 to 230.0, Baton Rouge, LA.
7. The Saturday before July 4th or on July 4th if that day is a Saturday | Independence Day Celebration/Bridge Side Marine | Grand Isle, LA | 500 Foot Radius from the Pier located at Bridge Side Marine, 2012 LA Highway 1, Grand Isle, LA (Lat: 29°12′14″ N; Long: 090°02′28.47″ W).
8. 1st Weekend of September | LA Shrimp and Petroleum Festival Fireworks Display, LA Shrimp and Petroleum Festival and Fair Association | Morgan City, LA | Atchafalaya River at mile marker 118.5, Morgan City, LA.
9. 1st Weekend in December (Usually that Friday, subject to change due to weather) | Office of Mayor-President/Downtown Festival of Lights | Baton Rouge, LA | Located on Left Descending Bank, Lower Mississippi River north of the USS Kidd, at mile marker 230, Baton Rouge, LA.
10. December 31st | Crescent City Countdown Club/New Year's Celebration | Mississippi River, New Orleans, LA | Mississippi River mile marker 93.5-96.5, New Orleans, LA.
11. December 31st | Boomtown Casino/New Year's Celebration | Harvey Canal, Harvey, LA | Harvey Canal mile marker 4.0 to 5.0, Harvey, LA.
12. July 4th | USS Kidd Veterans Memorial/Fourth of July Star-Spangled Celebration | Baton Rouge, LA | In the vicinity of the USS Kidd, the Lower Mississippi River from mile marker 228.8 to 230.0, Baton Rouge, LA.
13. Saturday before Labor Day | Baton Rouge Paddle Club and Muddy Water Paddle Co./Big River Regional | Baton Rouge, LA | Mississippi River from mile marker 215 to 230.4, Baton Rouge, LA.
14. July 4th | L'Auberge Casino Baton Rouge/July 4th Celebration | Baton Rouge, LA | Mississippi River from mile marker 216.0 to 217.5, Baton Rouge, LA.
15. July 4th | Madisonville Old Fashioned 4th of July | Madisonville, LA | Tchefuncte River, at approximate position 30°24′11.63″ N 090°09′17.39″ W, in front of the Madisonville Town Hall.
16. Weekend before July 4th | Mandeville July 4th Celebration | Mandeville, LA | Approximately 600′ off the shore of the Mandeville Lakefront 30°21′12.03″ N 90°04′ 28.95″ W.

Dated: October 31, 2018.
W.E. Watson,
Captain, U.S. Coast Guard, Acting Captain of the Port Sector New Orleans.

[FR Doc. 2018-24230 Filed 11-5-18; 8:45 am]

BILLING CODE 9110-04-P